DEPARTMENT OF THE INTERIOR

National Park Service

[NPS-WASO-NAGPRA-NPS0030758; PPWOCRADN0-PCU00RP14.R50000]

Notice of Intent To Repatriate Cultural Item: Museum of Riverside, Riverside, CA

AGENCY: National Park Service, Interior.

ACTION: Notice.

SUMMARY: The Museum of Riverside, in consultation with the appropriate Indian Tribes or Native Hawaiian organizations, has determined that the cultural item listed in this notice meets the definition of a sacred object. Lineal descendants or representatives of any Indian Tribe or Native Hawaiian organization not identified in this notice that wish to claim this cultural item should submit a written request to the Museum of Riverside. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the Museum of Riverside at the address in this notice by October 8, 2020.

ADDRESSES: Robyn G. Peterson, Ph.D., Museum Director, Museum of Riverside, 3580 Mission Inn Avenue, Riverside, CA 92501, telephone (951) 826-5792, email rpeterson@riversideca.gov.

SUPPLEMENTARY INFORMATION: Notice is here given in accordance with the Native American Graves Protection and Repatriation Act (NAGPRA), 25 U.S.C. 3005, of the intent to repatriate a cultural item under the control of the Museum of Riverside, Riverside, CA, that meets the definition of sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

On an unknown date, one sacred item was removed from the traditional land of the Diegueño/Kumeyaay in San Diego County, CA. A letter dated May 5, 1952, documents the donor's bequest of the sacred object to the Museum. The one sacred object is a ca. 1900 basketry feathered shaman's hat. The cultural affiliation and identity of the cultural item were determined in consultation with Clint Linton, a member of the Iipay Nation of Santa Ysabel, California (previously listed as Santa Ysabel Band of Diegueño Mission Indians of the Santa Ysabel Reservation) and Kumeyaay Tribal NAGPRA representative. The Museum also sent letters pertaining to this sacred object to the leader for each of the 13 federally recognized Kumeyaay Tribes (Campo Band of Diegueño Mission Indians of the Campo Indian Reservation, Capitan Grande Band of Diegueño Mission Indians of California: Barona Group of Capitan Grande Band of Mission Indians of the Barona Reservation, Ewiiaapaayp Band of Kumeyaay Indians, Inaja Band of Diegueño Mission Indians of California, Jamul Indian Village of California, La Posta Band of Diegueño Mission Indians, Lipay Nation of Santa Ysabel, Manzanita Band of Diegueño Mission Indians, Mesa Grande Band of Diegueño Mission Indians, San Pasqual Band of Diegueño Mission Indians of California, Sycuan Band of the Kumeyaay Nation, and Viejas Band of Kumeyaay Indians).

Determinations Made by the Museum of Riverside

Officials of the Museum of Riverside have determined that:

• Pursuant to 25 U.S.C. 3001(3)(C), the one cultural item described above is a specific ceremonial object needed by traditional Native American religious leaders for the practice of traditional Native American religions by their present-day adherents.

• Pursuant to 25 U.S.C. 3001(2), there is a relationship of shared group identity that can be reasonably traced between the sacred object and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

Additional Requestors and Disposition

Lineal descendants or representatives of any Indian Tribe or Native Hawaiian organization not identified in this notice that wish to claim these cultural items should submit a written request with information in support of the claim to Robyn G. Peterson, Ph. D, Museum Director, Museum of Riverside, 3580 Mission Inn Avenue, Riverside, CA 92501, telephone (951) 826-5792, email rpeterson@riversideca.gov, by October 8, 2020. After that date, if no additional claimants have come forward, transfer of ownership of the sacred object to The Tribes may proceed.

The Museum of Riverside is responsible for notifying The Tribes that this notice has been published.

Dated: August 10, 2020.
Melanie O'Brien,
Manager, National NAGPRA Program.

[FR Doc. 2020-19702 Filed 9-4-20; 8:45 am]

BILLING CODE 4312-52-P